DEPARTMENT OF TRANSPORTATION

Federal Transit Administration

Preparation of Alternatives/Technology Assessment with the Intent of Preparing an Environmental Impact Statement for the International Drive (I-Drive) Circulator; Orange County, FL

AGENCY: Federal Transit Administration (FTA), DOT.

ACTION: Notice of intent to prepare an Environmental Impact Statement (EIS).

SUMMARY: The Florida Department of Transportation (FDOT), in consultation with the Federal Transit Administration (FTA) and the Central Florida Regional Transportation Authority (locally known as LYNX), is issuing this notice to advise the public that FDOT and LYNX intend to conduct a Scoping Meeting and an Alternatives/Technology Assessment, leading to the preparation of an Environmental Impact Statement (EIS) that would comply with all FTA requirements and in accordance with the National Environmental Policy Act (NEPA) of 1969, as amended and the regulations of the Council on Environmental Quality (CEQ) and all other relevant Federal, State and local regulations and requirements. This EIS will be prepared to evaluate a transit circulator described as the International Drive (I-Drive) Circulator system that would serve as a feeder/distributor system connected to the proposed regional rail transit system including the proposed North-South Light Rail Transit (LRT) system and the proposed Orlando International Airport (OIA) Connector system.

This Notice of Intent is being published at this time to notify interested parties and to solicit participation in the study. The objective of the Alternatives/Technology Assessment is to identify a Locally Preferred Alternative (LPA) that can then be evaluated further as part of the EIS phase of project development. The proposed project is planned to connect major attractions in the I-Drive area including the Belz Factory Outlet Mall, the Orange County Convention Center, numerous hotels and restaurants in the area, Sea World and a connection to the Universal Studios area. The proposed connection to the regional rail transit system will occur in the area of the Orange County Convention Center or the Belz Factory Outlet and will make I-Drive accessible by transit from the OIA. The project study area will be the International Drive corridor between Belz Factory Outlet on the north through Universal/Major Blvd. and Canadian Court Intermodal Center areas to the Sea World area on the south, including a possible connection to Universal Studios to the west of Interstate 4.

The following alternatives will be evaluated as part of this study: (1) A No Action (No Build) Alternative; (2) a Transportation Systems Management (TSM) Alternative/Baseline; and (3) two or more Fixed Guideway Alternatives; the assessment of alternative technologies is a part of this study effort.

DATES: Comment Due Date: Written comments on the scope of alternatives and impacts to be considered should be directed to Ms. Tawny Olore, Rail Transit Project Manager, Florida Department of Transportation—District 5, 719 South Woodland Boulevard, MS 2-543, DeLand, Florida, 32720 by April 12, 2004. Scoping Meeting: Scoping for the study will be accomplished through review of previous studies and consultation with affected agencies, interested persons/key stakeholders through correspondence and at the public scoping meeting and other public meetings.

ADDRESSES: A Scoping Meeting will be conducted to provide the purpose and need for the study, describe the process that will be followed, define the limits of the study area, to answer any questions that may exist, and to receive comments, thoughts, and/or opinions relevant to the study. The meeting will be held on Wednesday, February 25, 2004 from 11 a.m. to 12 p.m. at the Orange County Convention Center in the Lecture Hall, Room W300, located at 9800 International Drive, Orlando, Florida 32819. Persons with disabilities, in accordance with the Americans with Disabilities Act of 1990, who may require special accommodations to participate in the Scoping Meeting should contact Mr. Steve Ferrell, P.E., Deputy Project Manager, at least seven (7) calendar days prior to the meeting date. Please send a request to the following address: Mr. Steve Ferrell, Deputy Project Manager, Wilbur Smith Associates, 3535 Lawton Road, Suite 100, Orlando, Florida 32803, phone: (407) 896-5851; fax: (407) 896-9165; e-mail: i-drive@wilbursmith.com.

FOR FURTHER INFORMATION CONTACT: Ms. Tawny Olore, Rail Transit Project Manager, Florida Department of Transportation—District 5, 719 South Woodland Boulevard, MS 2-543, DeLand, Florida, 32720, phone: (386) 943-5707, e-mail: tawny.olore@dot.state.fl.us. You may also contact Mr. Derek R. Scott, Community Planner, Federal Transit Administration, 61 Forsyth Street, SW., Suite 17T50, Atlanta, Georgia 30303, phone: (404) 562-3524.

SUPPLEMENTARY INFORMATION:

1. Notice of Intent

This Notice of Intent to prepare an Alternatives / Technology Assessment leading to an Environmental Impact Statement is being published at this time to advise interested parties of the study and to solicit comment from the general public. FTA regulations and guidance, in accordance with NEPA will be used in the analysis and preparation of the International Drive (I-Drive) Circulator Study.

2. Scoping

Both FTA and FDOT encourage you to provide comments at the Scoping Meeting as discussed previously and will accept written comments for up to 45 days following the meeting date. Comments should focus on the scope of the alternatives and any specific social, economic, or environmental impacts to be considered as part of this study.

Persons wishing to be placed on a mailing list to receive further information as the study progresses are encouraged to contact: Mr. Steve Ferrell, Deputy Project Manager, Wilbur Smith Associates, 3535 Lawton Road, Suite 100, Orlando, Florida 32803, phone: (407) 896-5851; fax: (407) 896-9165; e-mail: i-drive@wilbursmith.com.

3. Study Area and Project Need

The project study area includes the International Drive corridor between Belz Factory Outlet on the north through Universal/Major Blvd. and Canadian Court Intermodal Center areas to the Sea World area on the south, including a possible connection to Universal Studios to the west of Interstate 4. The proposed project is planned to connect major attractions/activity centers in the I-Drive area including the Belz Factory Outlet Mall, the Orange County Convention Center, numerous hotels and restaurants in the area, Sea World and a possible connection to the Universal Studios area. The proposed connection to the regional rail transit system will occur in the area of the Orange County Convention Center or the Belz Factory Outlet and will make I-Drive accessible by transit from the OIA.

The underlying purpose of the I-Drive Circulator Study is to enable the Florida Department of Transportation, District 5 and other local agencies to make an informed decision regarding the preferred investment strategy for transportation system improvements in the I-Drive Corridor. The I-Drive Circulator Study process will provide a forum to assess community concerns, financial and policy support, review alternative transit modes and technologies and explore the social, economic and environmental impact of a transportation investment in the corridor.

The I-Drive Circulator Study will also examine alignment and technology options that play an important role in improving access and mobility for local residents, employees and visitors to the I-Drive area. As part of this process, the I-Drive Circulator Study will integrate urban design, livable community principles, and economic development potential along with the transportation planning and engineering analyses. The I-Drive Circulator Study will culminate not only in transportation and public policy solutions that will enhance Central Florida's standing as a convention and tourist destination, but build sustainable civic infrastructure that will serve local resident, businesses and employees from future congestion problems in the I-Drive Corridor.

Previous studies by LYNX, the local public transportation authority, concluded that the local circulator service in the I-Drive area was a necessary and strategic element in the overall development of an effective regional transportation system. Factors that constitute the need for the I-Drive Circulator include meeting existing and future travel demands, loss of mobility due to the projected increase in traffic on the major roadways within the study area, and current and future projected expansion of the Orange County Convention Center and other proposed developments.

To keep up with the tremendous growth in the attractions in the study area and in south Orange County, METROPLAN ORLANDO (metropolitan planning organization (MPO) for the Orlando, Florida Transportation Management Area) has identified the need for this project. The need for the I-Drive Circulator is consistent with METROPLAN ORLANDO's 2020 Long Range Transportation Plan Update (adopted December 2000). However, this project is currently not listed in any local government comprehensive plans, including Orange County and the City of Orlando.

4. Alternatives

A number of transportation alternatives will be evaluated as part of this study. These include: (1) No Action (No Build) Alternative that consists of existing and programmed transportation improvements as identified in METROPLAN ORLANDO's Cost Feasible 2020 Long Range Transportation Plan Update, which includes the North-South LRT system. This alternative serves as the NEPA baseline. (2) The TSM Alternative includes enhanced LYNX bus services and facilities in addition to other TSM-related projects. This alternative is defined as low-cost operational improvements identified to address transportation problems in the corridor. (3) Fixed Guideway Transit Alternatives that may include a combination of feasible modes with various alternative alignments using both street and/or highway corridors. These alternatives would ultimately link to the proposed regional rail transit system.

As part of the Alternatives/Technology Assessment, capital, operating, and maintenance costs and other financial impacts will be evaluated. Upon the selection and screening of a set of initial alternatives, a set of conceptual alternatives will be identified and will undergo a comparative evaluation process to be further refined. A detailed analysis of the refined alternatives will be undertaken during the Alternatives/Technology Assessment and subsequent draft EIS phase of project development. These refined, conceptual viable alternatives will ultimately be presented to the public and agencies at a series of public workshops. Upon the selection of a Build Alternative, FDOT will then request that METROPLAN ORLANDO review and approve the LPA selection. Once the LPA is approved, the MPO will consider including the LPA in the Cost Feasible Plan of the MPO's Long Range Transportation Plan.

5. Probable Effects

Should the study proceed from the Alternatives/Technology Assessment to an Environmental Impact Statement, preliminary steps will be taken to allow FTA and FDOT to evaluate the project's potential for significant adverse impacts during construction and operation. Analysis of socio-economic impacts would include the evaluation of land use and neighborhood impacts, parks and recreational areas, historic and archaeological resources, displacement and environmental justice (disproportionate adverse impacts on minority and low-income populations), visual and aesthetic impacts, transit (ridership, operations, and maintenance), traffic, and parking. Impacts to the natural environment would include Outstanding Florida Waters, Wild and Scenic Rivers, aquatic preserves, wetlands, and threatened and endangered species. The physical impact analysis would include the evaluation of noise and vibration, air quality, energy, potential hazardous materials, water quality, and coastal zone consistency. The environmental evaluation would consider construction and cumulative and secondary impacts. Measures to mitigate any adverse impacts would also be addressed.

In addition, this study is being coordinated with other transit initiative studies that are currently underway. These projects include: (1) Canadian Court Intermodal Center; (2) the Orlando International Airport Connector; and (3) the North-South Light Rail Transit project. Although the above-mentioned studies are freestanding and capable of independent utility, all projects will continue to be closely monitored to ensure project consistency. Additional information on these other independent transit initiatives, may be obtained from Ms. Tawny Olore, Rail Transit Project Manager, Florida Department of Transportation—District 5, 719 South Woodland Boulevard, MS 2-543, DeLand, Florida 32720, phone: (386) 943-5707; e-mail: tawny.olore@dot.state.fl.us.

6. FTA Procedures

In accordance with FTA policy, all Federal laws, regulations, and executive orders affecting project development, including but not limited to the regulations of the Council on Environmental Quality and FTA for implementing NEPA (40 CFR parts 1500-1508, and 23 CFR part 771), the 1990 Clean Air Act Amendments, section 404 of the Clean Water Act, Executive Order 13274 on Environmental Streamlining (September 18, 2002), Executive Order 12898 regarding Environmental Justice, the National Historic Preservation Act, the Endangered Species Act, and section 4(f) of the DOT Act, will be addressed to the maximum extent practicable during the NEPA process. In addition, following selection and adoption of the LPA, FDOT may seek FTA Section 5309 New Starts funding for the LPA, and therefore, will be subject to the FTA New Starts Regulations (49 CFR part 611). This New Starts regulation requires submission of information specified by FTA to support FDOT's request to initiate Preliminary Engineering.

The Alternatives Analysis and subsequent Preliminary Engineering activities are to be executed in conjunction with the NEPA process.

Issued on: February 6, 2004.
George T. Thomson,
Acting FTA Regional Administrator.

[FR Doc. 04-2987 Filed 2-10-04; 8:45 am]

BILLING CODE 4910-57-P